LEGAL SERVICES CORPORATION

Sunshine Act Meetings; Notice

DATE AND TIME: The Legal Services Corporation Board of Directors will meet telephonically on November 18, 2011. The meeting will begin at 4 p.m., Eastern Standard Time, and will continue until the conclusion of the Board's agenda.

LOCATION: F. William McCalpin Conference Center, Legal Services Corporation Headquarters Building, 3333 K Street NW., Washington DC 20007.

PUBLIC OBSERVATION: Unless otherwise noticed herein, the Board meeting will be open to public observation. Members of the public who are unable to attend in person but wish to listen to the public proceeding may do so by following the telephone call-in directions provided below but are asked to keep their telephones muted to eliminate background noises. From time to time, the presiding Chair may solicit comments from the public.

CALL-IN DIRECTIONS FOR OPEN SESSION: • Call toll-free number: 1-(866)-451-4981.

• When prompted, enter the following numeric pass code: 5907707348.

• When connected to the call, please “MUTE” your telephone immediately.

STATUS OF MEETING: Open.

MATTERS TO BE CONSIDERED: 1. Approval of agenda.

2. Consider and act on matters relating to LSC's 403(b) thrift plan.

• Amendment of plan to permit inclusion of payments after an employee's last day of work, such as vacation leave payouts, and related issues

• Amendment of plan to reflect Civil Service Retirement System (CSRS)-eligible employees' participation in the plan since 2010

• Loan procedures modification to the number of loans that an employee can take out in one year

3. Consider and act on the Board of Directors' report in response to the Inspector General's Semiannual Report to Congress for the period of April 1, 2011 through October 31, 2011.

4. Public Comment.

5. Consider and act on other business.

6. Consider and act on adjournment of meeting.

CONTACT PERSON FOR INFORMATION: Katherine Ward, Executive Assistant to the Vice President & General Counsel, at (202) 295-1500. Questions may be sent by electronic mail to FR_NOTICE_QUESTIONS@lsc.gov.

ACCESSIBILITY: LSC complies with the American's with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: November 9, 2011.
Victor M. Fortuno,
Vice President & General Counsel.

[FR Doc. 2011-29693 Filed 11-14-11; 11:15 am]

BILLING CODE 7050-01-P